OFFICE OF MANAGEMENT AND BUDGET

Request for Information To Support the Development of a Strategic Plan on Statistics for Environmental-Economic Decisions

AGENCY: Office of Management and Budget.

ACTION: Request for Information (RFI).

SUMMARY: The White House Office of Management and Budget (OMB)—on behalf of the co-chairs of the Interagency Policy Working Group on Statistics for Environmental-Economic Decisions (Working Group), the Office of Science and Technology Policy (OSTP), and Department of Commerce (DOC)—requests information and comments on questions posed by the Working Group to help inform the development of Government-wide natural capital accounts and standardized environmental-economic statistics. The Working Group has developed a draft Strategic Plan that recommends short- and long-term strategic goals, as well as objectives and proposed strategies to achieve a routinely produced set of Government-wide natural capital accounts and standardized environmental-economic statistics that complement and operate in alignment with core national economic accounts and statistics. To support the Strategic Plan, OMB seeks information on likely and potential applications for U.S. natural capital accounts, established statistics and accounts that would strengthen the U.S. system, relevant external factors that may affect implementation of the Strategic Plan, and relevant ancillary or indirect consequences of developing natural capital accounts or associated statistics.

DATES: Interested persons and organizations are invited to submit comments by October 21, 2022.

ADDRESSES: Submit comments through www.regulations.gov—a Federal E-Government website that allows the public to find, review, and submit comments on documents that agencies have published in the Federal Register and that are open for comment. Enter “OMB-2022-0009” (in quotes) in the search box and follow the instructions for submitting comments. Please include the Docket ID (OMB-2022-0009) and the phrase “RFI-Natural Capital” at the beginning of your comments. Please also indicate which questions from the INFORMATION REQUESTED section of this notice is addressed in your comments.

Comments submitted in response to this notice may be made available to the public and subject to disclosure under the Freedom of Information Act. For this reason, please do not include in your comments information of a confidential nature, such as sensitive personal information or proprietary information. If you send an email comment, your email address will be automatically captured and included as part of the comment that is placed in the public docket; however, www.regulations.gov does include the option of commenting anonymously. Please note that responses to this public comment request containing any routine notice about the confidentiality of the communication will be treated as public comments that may be made available to the public notwithstanding the inclusion of the routine notice.

Electronic Availability: Federal Register notices are available electronically at www.federalregister.gov/. The draft Strategic Plan is available at https://www.whitehouse.gov/wp-content/uploads/2022/08/Natural-Capital-Accounting-Strategy.pdf.

Public Review Procedure: All comments and proposals received in response to this notice will be available for public inspection.

Instructions

Response to this RFI is voluntary. Each responding entity (individual or organization) is requested to submit only one response. OMB welcomes any responses to inform and guide the work of OMB and the Working Group. Please feel free to respond to one or as many prompts as you choose. Submission should use 12-point or larger font, with a page number provided on each page. Respondents are encouraged, though not required, to include the name of the person(s) or organization(s) filing the comment; the respondent type (e.g., academic, advocacy, professional society, community-based organization, industry, trainee/student, member of the public, government, other); and the respondent's role in the organization (e.g., researcher, faculty, student, program manager, journalist). For comments containing references, studies, research, and other empirical data that are not widely published, respondents are encouraged to include copies or electronic links of the referenced materials, in a machine-readable format to the degree possible. No business proprietary information, copyrighted information, or sensitive personally identifiable information should be submitted in response to this RFI. Please be aware that comments submitted in response to this RFI may be released publicly.

FOR FURTHER INFORMATION CONTACT: For additional information, contact: Andrew Stawasz, Office of Information and Regulatory Affairs, Office of Management and Budget, New Executive Office Building, Washington, DC 20503, Email: NaturalCapitalAccounting@omb.eop.gov, Telephone: (202) 881-7051.

SUPPLEMENTARY INFORMATION:

Background: Existing national economic accounts data for the United States—the organized data describing the U.S. economy, often summarized as Gross Domestic Product (GDP)—provide an incomplete view of the Nation's environmental and natural assets,¹ and the changing value of these important assets remains disconnected from broader economic statistics. As a result, while the Federal statistical system generally reflects how many economic sectors interact, it does not reflect how the environment affects and responds to economic sectors and vice versa.

¹ Environmental or natural assets are durable physical or biological elements of nature that persist through time to contribute to current or future economic production, human enjoyment, or other services people value.

Natural capital or natural assets, the environmental or ecosystem services they generate, and expenditures to secure and protect nature are foundational elements of economic progress and growth, future opportunity, and sustainable development. Measuring natural assets and maintaining statistical series—that is, conducting repeated measurement over time that relates the environment with the economy—can inform planning tools for the American economy, contributing to goals like job creation and international competitiveness. The international community has demonstrated a growing interest in rapidly developing natural capital accounting methodologies, and the private sector has shown a growing demand for natural capital data to reduce uncertainty and ensure competitiveness. Therefore, there is demand for U.S. Federal leadership to develop natural capital accounts and standardized environmental-economic statistics to provide a centralized domestic framework and to promote international norms.

On Earth Day 2022, the Biden-Harris Administration announced an initiative to develop and maintain the first U.S. natural capital accounts and standardized environmental-economic statistics. An interagency Working Group—co-chaired by OMB, OSTP, and DOC, with participation from the Council of Economic Advisors, Council on Environmental Quality, Domestic Climate Policy Office, National Economic Council, National Security Council, Departments of Agriculture, Interior, Labor, State, and Treasury, Environmental Protection Agency, and National Aeronautics and Space Administration—developed a strategy for producing natural capital accounts that work within the U.S. standard national accounting system. These natural capital accounts would be able to measure the economic value that natural assets provide to society.

The Working Group has developed a Strategic Plan divided into five main sections:

(1) The Need for a System of Statistics for Environmental-Economic Decisions details how the development of natural capital accounts and standardized environmental-economic statistics are expected to contribute to sustainable development of the U.S. macro-economy; encourage more informed Federal decision-making; increase the competitiveness of American firms; and support enhanced resilience of states, communities, territories, and tribes.

(2) Renewing U.S. Leadership and Building on Strength outlines the importance of U.S. leadership in environmental-economic statistics and describes the history of the development of environmental-economic statistics in the United States.

(3) Connecting Natural Capital and Environmental-Economic Statistics with National Economic Accounts provides systematic recommendations for the development of natural capital accounts and environmental-economic statistics, placing them in the context of the U.S. statistical system and in the context of the development of international standards.

(4) Developing a U.S. System of Statistics for Environmental-Economic Decisions: Targets, Timelines, and Tasks identifies headline summaries and products, the pathway to production-grade accounts and core statistical products, supporting activities necessary to develop and manage the system, the environmental sectors the working group recommends be developed into natural capital accounts, a proposed timeline for developing individual accounts (e.g., an air account, a land account), and additional research and guidance needs. This section also identifies the data and expertise within the U.S. Government needed to produce sustained natural capital accounts and environmental-economic statistics.

(5) Administrative Coordination Across the Government details how interagency coordination for developing the initiative would be carried out by the Chief Statistician of the United States and processes to facilitate data sharing to ensure interoperability across the Federal Government. This section also summarizes the legal authority for developing natural capital accounts and standardized environmental-economic statistics.

This request for information aims to support the Working Group's continued effort to develop and implement a strategy for developing statistics for environmental-economic decisions. OMB is interested in hearing from a diversity of stakeholders, sectors, and members of the public.

Information Requested

OMB is issuing this notice in order to facilitate robust interaction with the public on this new U.S. Government endeavor. Input is welcome from stakeholders and members of the public representing all backgrounds and perspectives. Through this RFI, OMB seeks information and feedback on the Strategic Plan for Statistics for Environmental-Economic Decisions in order to realize natural capital accounts and associated environmental-economic statistics, including on the following topics:

• Likely and potential applications for U.S. natural capital accounts and associated environmental-economic statistics that would improve government or private-sector decision making that are not described in the draft Strategic Plan;

• Comments related to established and widely recognized systems of environmental-economic statistics or natural capital accounts that could strengthen the U.S. system;

• External factors that may affect the Federal Government's ability to implement the Strategic Plan; and

• Ancillary or indirect consequences of developing natural capital accounts or associated environmental-economic statistics.

K. Sabeel Rahman,
Senior Counselor, Office of Information and Regulatory Affairs.

[FR Doc. 2022-17993 Filed 8-18-22; 8:45 am]

BILLING CODE 3110-01-P